ENVIRONMENTAL PROTECTION AGENCY

[FRL-9997-90-OMS]

Privacy Act of 1974; System of Records

AGENCY: Office of Mission Support, Environmental Protection Agency (EPA).

ACTION: Notice of a new system of records.

SUMMARY: The Environmental Protection Agency's (EPA) Office of Air and Radiation, Office of Atmospheric Programs, is giving notice that it proposes to create a new system of records pursuant to the provisions of the Privacy Act of 1974. This system of records contains personally identifiable information collected from approved Clean Air Act section 608 technician certification programs that are withdrawing from the program or having their approval revoked. The system will maintain the information necessary for EPA to assist certified air-conditioning and refrigeration technicians who have lost or damaged their certification cards in obtaining replacement cards when the original cards were obtained from certification programs that have withdrawn from the program or have had their approval revoked.

DATES: Persons wishing to comment on this new system of records notice must do so by September 19, 2019. If no comments are received, the system of records notice will become effective by September 19, 2019.

ADDRESSES: Submit your comments, identified by Docket ID No. EPA-HQ-OEI-2017-0205, by one of the following methods:

Regulations.gov: www.regulations.gov. Follow the online instructions for submitting comments.

Email: oei.docket@epa.gov.

Fax: 202-566-1752.

Mail: OMS Docket, Environmental Protection Agency, Mailcode: 2822T, 1200 Pennsylvania Ave. NW, Washington, DC 20460.

Hand Delivery: OMS Docket, EPA/DC, WJC West Building, Room 3334, 1301 Constitution Ave. NW, Washington, DC. Such deliveries are only accepted during the Docket's normal hours of operation, and special arrangements should be made for deliveries of boxed information.

Instructions: Direct your comments to Docket ID No. EPA-HQ-OEI-2017-0205. The EPA's policy is that all comments received will be included in the public docket without change and may be made available online at www.regulations.gov, including any personal information provided, unless the comment includes information claimed to be Controlled Unclassified Information (CUI) or other information for which disclosure is restricted by statute. Do not submit information that you consider to be CUI or otherwise protected through www.regulations.gov. The www.regulations.gov website is an “anonymous access” system for EPA, which means the EPA will not know your identity or contact information unless you provide it in the body of your comment. Each agency determines submission requirements within their own internal processes and standards. EPA has no requirement of personal information. If you send an email comment directly to the EPA without going through www.regulations.gov your email address will be automatically captured and included as part of the comment that is placed in the public docket and made available on the internet. If you submit an electronic comment, the EPA recommends that you include your name and other contact information in the body of your comment. If the EPA cannot read your comment due to technical difficulties and cannot contact you for clarification, the EPA may not be able to consider your comment. Electronic files should avoid the use of special characters, any form of encryption, and be free of any defects or viruses. For additional information about the EPA's public docket visit the EPA Docket Center homepage at http://www.epa.gov/epahome/dockets.htm.

Docket: All documents in the docket are listed in the www.regulations.gov index. Although listed in the index, some information is not publicly available, e.g., CUI or other information for which disclosure is restricted by statute. Certain other material, such as copyrighted material, will be publicly available only in hard copy. Publicly available docket materials are available either electronically in www.regulations.gov or in hard copy at the OMS Docket, EPA/DC, WJC West Building, Room 3334, 1301 Constitution Ave. NW, Washington, DC. The Public Reading Room is open from 8:30 a.m. to 4:30 p.m., Monday through Friday excluding legal holidays. The telephone number for the Public Reading Room is (202) 566-1744, and the telephone number for the OMS Docket is (202) 566-1752.

FOR FURTHER INFORMATION CONTACT: Sara Kemme, Office of Atmospheric Programs, U.S. Environmental Protection Agency, Mail Code 6205T, 1200 Pennsylvania Avenue NW, Washington, DC 20460; email address: kemme.sara@epa.gov, (202) 566-0511.

SUPPLEMENTARY INFORMATION: The U.S. Environmental Protection Agency (EPA) plans to create a Privacy Act system of records for certain refrigeration and air-conditioning technician records. The information collected in this system supports the refrigerant management program under Clean Air Act (CAA) section 608 and implementing regulations codified in 40 CFR part 82, subpart F. The regulations establish a certification program for technicians that work on air-conditioning or refrigeration appliances. Instead of directly testing and issuing certifications, EPA approves programs that certify technicians. Certifying programs can voluntarily withdraw when they no longer wish to certify technicians. When a program withdraws its participation, or has its approval revoked or failure to abide by the regulatory requirements, the program must properly dispose of its records by transferring them to another approved technician certification program or to EPA. These records will allow EPA to assist certified technicians in obtaining replacement certification cards.

SYSTEM NAME AND NUMBER

Section 608 Technician Certification Records, EPA-75.

SECURITY CLASSIFICATION:

Unclassified.

SYSTEM LOCATION:

U.S. Environmental Protection Agency, 1200 Pennsylvania Avenue NW, Washington, DC 20460.

SYSTEM MANAGER(S):

Branch Chief, Stratospheric Program Implementation Branch, Stratospheric Protection Division, Office of Atmospheric Programs, Mail Code 6205T, 1200 Pennsylvania Avenue NW, Washington, DC 20460; email address spdcomment@epa.gov.

AUTHORITY FOR MAINTENANCE OF THE SYSTEM:

42 U.S.C. 7414, 7601, 7671-7671q.

PURPOSE(S) OF THE SYSTEM:

The purpose of the system is to accept records from programs that withdraw or have their approval revoked from participation in the Section 608 technician certification program. The system will maintain the information necessary for EPA to assist certified air-conditioning and refrigeration technicians who have lost or damaged their certification cards in obtaining replacement cards.

CATEGORIES OF INDIVIDUALS COVERED BY THE SYSTEM:

EPA-certified air-conditioning and refrigeration technicians whose certifying program has withdrawn its participation in the program or had its approval revoked.

CATEGORIES OF RECORDS IN THE SYSTEM:

Technician name (first, last and middle initial), address, contact information (which can include address, phone number, and email address), type of certification, site of certification or location number, year of certification, certifying program-generated identification number, notes on how past requests for replacement cards were resolved, and other information provided by the technician certification program.

RECORD SOURCE CATEGORIES:

EPA-approved certifying programs that are withdrawing from the program or are having their approval revoked.

ROUTINE USES OF RECORDS MAINTAINED IN THE SYSTEM, INCLUDING CATEGORIES OF USERS AND PURPOSES OF SUCH USES:

The use of the record is necessary for the efficient conduct of government operations; and/or the use is both related to and compatible with the original purpose for which the information was collected. Also, each routine use of the records contained in the system, including the categories of users and the purpose of such use. The last two routine uses are required in accordance with M-17-12. Information may be provided:

1. To a federal, state, local, tribal or foreign agency if the information is relevant to a violation or potential violation of law, whether civil, criminal or regulatory in nature;

2. To the Department of Justice, or in a proceeding before a court, adjudicative body, or other administrative body before which the Agency is authorized to appear, when: 1. The Agency, or any component thereof; 2. Any employee of the Agency in his or her official capacity; 3. Any employee of the Agency in his or her individual capacity where the Department of Justice or the Agency have agreed to represent the employee; or 4. The United States, if the Agency determines that litigation is likely to affect the Agency or any of its components, is a party to litigation or has an interest in such litigation, and the use of such records by the Department of Justice or the Agency is deemed by the Agency to be relevant and necessary to the litigation provided, however, that in each case it has been determined that the disclosure is compatible with the purpose for which the records were collected;

3. To contractors, grantees, consultants or volunteers who have been engaged by the agency to assist in performing a service and who need access to the information in order to perform the service;

4. To an authorized appeal grievance examiner, formal complaints examiner, equal employment opportunity investigator, arbitrator or other person properly engaged in investigation or settlement of an administrative grievance, complaint, claim, or appeal filed by an employee, but only to the extent that the information is relevant and necessary to the proceeding. Agencies that may obtain information under this routine use include, but are not limited to, the Office of Personnel Management, Office of Special Counsel, Merit Systems Protection Board, Federal Labor Relations Authority, Equal Employment Opportunity Commission, and Office of Government Ethics;

5. In connection with litigation or settlement discussions regarding claims by or against the Agency, including public filing with a court, to the extent that disclosure of the information is relevant and necessary to the litigation or discussions and except where court orders are otherwise required under section (b)(11) of the Privacy Act of 1974, 5 U.S.C. 552a(b)(11);

6. To appropriate agencies, entities, and persons when (1) the Agency suspects or has confirmed that there has been a breach of the system of records, (2) the Agency has determined that as a result of the suspected or confirmed breach there is a risk of harm to individuals, the Agency (including its information systems, programs, and operations), the Federal Government, or national security; and (3) the disclosure made to such agencies, entities, and persons is reasonably necessary to assist in connection with the Agency's efforts to respond to the suspected or confirmed breach or to prevent, minimize, or remedy such harm.

7. To another Federal agency or Federal entity, when the Agency determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

POLICIES AND PRACTICES FOR STORAGE OF RECORDS:

Electronic records will be stored in a password protected file on a computer that is not connected to the EPA network in a locked room and paper records will be stored in a locked filing cabinet in a locked room.

POLICIES AND PRACTICES FOR RETRIEVAL OF RECORDS:

Records are retrieved by the person's name.

POLICIES AND PRACTICES FOR RETENTION AND DISPOSAL OF RECORDS:

Records stored in this system are subject to EPA's records schedule 1035(d). This record retention schedule requires destruction 10 years after file closure.

ADMINISTRATIVE, TECHNICAL, AND PHYSICAL SAFEGUARDS:

Records stored at EPA offices are secured through building security protocols such as employee identification checks and security screenings for visitors. Electronic and hardcopy files will be stored at EPA headquarters in Washington DC. Electronic files can only be accessed using an EPA-issued PIV card. Access is limited to specific authorized Agency and contractor personnel who administer the program. All contractors are subject to the Federal Acquisition Regulations (FAR) Privacy Act clauses in their contract with EPA. Computer-stored information is protected in accordance with the Agency's security requirements. The system of records will be maintained as a password protected database on a computer that requires dual-factor authentication to log on to. Different levels of access (e.g., view, edit, etc.) will be assigned to personnel. Personnel that have access to the system will be trained in the handling of personally identifiable information. Paper records related to the system will be kept in locked filing cabinets within a limited access room or on a limited as-needed basis in a locked cabinet in EPA employee workspace.

RECORD ACCESS PROCEDURES:

Individuals can obtain assistance in obtaining a replacement technician certification card here: https://www.epa.gov/section608/steps-replacing-lost-section-608-technician-certification-card. General requests for access must be made in accordance with the procedures described in EPA's Privacy Act regulations at 40 CFR part 16. Requesters will be required to provide adequate identification, such as a driver's license, employee identification card, or other identifying document. Additional identification procedures may be required in some instances.

CONTESTING RECORD PROCEDURES:

Requests for correction or amendment must identify the record to be changed and the corrective action sought. Complete EPA Privacy Act procedures are described in EPA's Privacy Act regulations at 40 CFR part 16.

NOTIFICATION PROCEDURE:

Any individual who wants to know whether this system of records contains a record about him or her, who wants access to his or her record, or who wants to contest the contents of a record, should make a written request to the Agency Privacy Officer, MC 2831T, 1200 Pennsylvania Avenue NW, Washington, DC 20460.

EXEMPTIONS PROMULGATED FOR THE SYSTEM:

None.

HISTORY:

None.

Dated: August 1, 2019.
Vaughn Noga,
Senior Agency Official for Privacy.

[FR Doc. 2019-17922 Filed 8-19-19; 8:45 am]

BILLING CODE 6560-50-P